DEPARTMENT OF EDUCATION

National Board for Education Sciences; Meeting

AGENCY: U.S. Department of Education, Institute of Education Sciences.

ACTION: Notice of an open meeting.

SUMMARY: This notice sets forth the schedule and proposed agenda of an upcoming meeting of the National Board for Education Sciences. The notice also describes the functions of the Committee. Notice of this meeting is required by Section 10(a)(2) of the Federal Advisory Committee Act and is intended to notify the public of their opportunity to attend the meeting.

DATES: February 22, 2013.

Time: 8:30 a.m. to 5:00 p.m. Eastern Standard Time.

ADDRESSES: 80 F Street NW., Room 100, Washington, DC 20001.

FOR FURTHER INFORMATION CONTACT: Ellie Pelaez, 555 New Jersey Avenue NW, Room 600 E, Washington, DC 20208; phone: (202) 219-0644; fax: (202) 219-1402; email: Ellie.Pelaez@ed.gov.

SUPPLEMENTARY INFORMATION: The National Board for Education Sciences is authorized by Section 116 of the Education Sciences Reform Act of 2002 (ESRA), 20 U.S.C. 9516. The Board advises the Director of the Institute of Education Sciences (IES) on, among other things, the establishments of activities to be supported by the Institute, on the funding for applications for grants, contracts, and cooperative agreements for research after the completion of peer review, and reviews and evaluates the work of the Institute.

On February 22, 2013, starting at 8:30 a.m., the Board will approve the agenda and hear remarks from the NBES Chair, Bridget Terry Long. John Easton, Director of IES, will swear in one newly appointed Board member and four reappointed Board members. John Easton and the Commissioners of IES's national centers will then give an overview of recent developments at IES.

From 10:00 to 11:15 a.m., Board members will hear from John Easton about new IES Research Programs. After opening remarks from Dr. Easton, the Board members will participate in roundtable discussion. A break will take place from 11:15 to 11:30 a.m.

From 11:30 a.m. to 1:00 p.m., the Board will consider what the common core of state standards means for education and IES. Following opening presentations by Richard Laine, Education Division Director at the National Governors Association Center for Best Practices, and Carmel Martin, Assistant Secretary for Planning, Evaluation and Policy Development at the U.S. Department of Education, Board members will engage in roundtable discussion of the issues raised. The meeting will break for lunch from 1:00 to 2:00 p.m.

The Board meeting will resume from 2:00 to 3:00 p.m. for the members to discuss the topic, “The Role of the Researcher in Dissemination.” After opening remarks by Amber Winkler, Research Director at Thomas B. Fordham Institute, and Ruth Neild, Commissioner of the National Center for Education Evaluation, the Board will engage in roundtable discussion of the topic.

From 3:00 to 4:00 p.m., the Board will consider the topic, “IES and the Major Education Research Associations.” Kris Gutierrez and Judith Singer, NBES members, will provide the opening remarks and roundtable discussion will take place after.

An afternoon break will occur from 4:00 to 4:15 p.m.

From 4:15 to 4:45 p.m., the Board will discuss the Board's Executive Director position and the 2013 Annual Report. This discussion will be led by Bridget Terry Long, NBES Chair, and John Easton.

Between 4:45 and 5:00 p.m., there will be closing remarks and a consideration of next steps from the IES Director and NBES Chair, with adjournment scheduled for 5:00 p.m.

There will not be an opportunity for public comment. However, members of the public are encouraged to submit written comments related to NBES to Ellie Pelaez (see contact information above). A final agenda is available from Ellie Pelaez (see contact information above) and is posted on the Board Web site http://ies.ed.gov/director/board/agendas/index.asp. Individuals who will need accommodations for a disability in order to attend the meeting (e.g., interpreting services, assistance listening devices, or materials in alternative format) should notify Ellie Pelaez no later than February 8. We will attempt to meet requests for accommodations after this date but cannot guarantee their availability. The meeting site is accessible to individuals with disabilities.

Records are kept of all Board proceedings and are available for public inspection at 555 New Jersey Avenue NW, Room 602 K, Washington, DC 20208, from the hours of 9 a.m. to 5 p.m., Eastern Standard Time Monday through Friday.

Electronic Access to This Document: You may view this document, as well as other documents of this Department published in the Federal Register, in text or Adobe Portable Document Format (PDF) on the Internet at the following site: www.ed.gov/news/fed-register/index.html

To use PDF you must have Adobe Acrobat Reader, which is available free at this site. If you have questions about using PDF, call the U.S. Government Printing Office (GPO), toll free at 1-866-512-1800; or in the Washington, DC area at (202) 512-0000.

Note: The official version of this document is the document published in the Federal Register. Free Internet access to this official edition of the Federal Register and the Code of Federal Regulations is available on GPO Access at: www.gpoaccess.gov/nara/index.html

John Q. Easton,
Director, Institute of Education Science.

[FR Doc. 2013-02573 Filed 2-5-13; 8:45 am]

BILLING CODE 4000-01-P